DEPARTMENT OF THE INTERIOR

National Park Service

Notice of Inventory Completion: U.S. Department of Agriculture, Forest Service, Coronado National Forest, Tucson, AZ and Arizona State Museum, University of Arizona, Tucson, AZ

AGENCY: National Park Service, Interior.

ACTION: Notice.

Notice is here given in accordance with the Native American Graves Protection and Repatriation Act (NAGPRA), 25 U.S.C. 3003, of the completion of an inventory of human remains and associated funerary objects in the control of the U.S. Department of Agriculture, Forest Service, Coronado National Forest, Tucson, AZ, and in the possession of the Arizona State Museum, University of Arizona, Tucson, AZ. The human remains and associated funerary objects were removed from Pima County, AZ.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Arizona State Museum professional staff in consultation with representatives of the Ak Chin Indian Community of the Maricopa (Ak Chin) Indian Reservation, Arizona; Gila River Indian Community of the Gila River Indian Reservation, Arizona; Salt River Pima-Maricopa Indian Community of the Salt River Reservation, Arizona; and Tohono O'odham Nation of Arizona.

In 1983, human remains representing a minimum of 20 individuals were removed from the Pima Canyon Site, Pima County, AZ, during legally authorized excavations by the Coronado National Forest. The human remains have remained in the possession of the Arizona State Museum since their excavation. No known individuals were identified. The 229 associated funerary objects are pottery sherds, chipped stone tools and flakes. The associated funerary objects have remained in the possession of the Coronado National Forest since their excavation.

Based on material culture and site components, the Pima Canyon Site is a multi-component site with multiple occupations from the Archaic Period (approximately 2,000 years ago) through the early and middle Hohokam Periods (approximately A.D. 500-1150) to the Historic Period (approximately A.D. 1700 to early 1900s). Because the human remains are Native American and because they are most likely from the Historic Period, the human remains from this site are most likely to be of O'odham ancestry. The oral traditions of the Ak Chin Indian Community of the Maricopa (Ak Chin) Indian Reservation, Arizona; Gila River Indian Community of the Gila River Indian Reservation, Arizona; Salt River Pima-Maricopa Indian Community of the Salt River Reservation, Arizona; and Tohono O'odham Nation of Arizona, support the cultural affiliation of these four Indian tribes with historic O'odham sites in this area of southeastern Arizona.

Officials of the Arizona State Museum, University of Arizona and the U.S. Department of Agriculture, Forest Service, Coronado National Forest have determined that, pursuant to 25 U.S.C. 3001 (9-10), the human remains described above represent the physical remains of 20 individuals of Native American ancestry. Officials of the U.S. Department of Agriculture, Forest Service, Coronado National Forest have also determined that, pursuant to 25 U.S.C. 3001 (3)(A), the 229 objects described above are reasonably believed to have been placed with or near individual human remains at the time of death or later as part of the death rite or ceremony. Lastly, officials of the U.S. Department of Agriculture have determined that, pursuant to 25 U.S.C. 3001 (2), there is a relationship of shared group identity that can be reasonably traced between the Native American human remains and associated funerary objects and the Ak Chin Indian Community of the Maricopa (Ak Chin) Indian Reservation, Arizona; Gila River Indian Community of the Gila River Indian Reservation, Arizona; Salt River Pima-Maricopa Indian Community of the Salt River Reservation, Arizona; and Tohono O'odham Nation of Arizona.

Representatives of any other Indian tribe that believes itself to be culturally affiliated with the human remains and/or associated funerary objects should contact Dr. Frank E. Wozniak, NAGPRA Coordinator, Southwestern Region, USDA Forest Service, 333 Broadway Blvd., SE, Albuquerque, NM 87102, telephone (505) 842-3238, before April 13, 2009. Repatriation of the human remains and associated funerary objects to the Ak Chin Indian Community of the Maricopa (Ak Chin) Indian Reservation, Arizona; Gila River Indian Community of the Gila River Indian Reservation, Arizona; Salt River Pima-Maricopa Indian Community of the Salt River Reservation, Arizona; and Tohono O'odham Nation of Arizona may proceed after that date if no additional claimants come forward.

The U.S. Department of Agriculture, Forest Service, Coronado National Forest is responsible for notifying the Ak Chin Indian Community of the Maricopa (Ak Chin) Indian Reservation, Arizona; Gila River Indian Community of the Gila River Indian Reservation, Arizona; Salt River Pima-Maricopa Indian Community of the Salt River Reservation, Arizona; and Tohono O'odham Nation of Arizona that this notice has been published.

Dated: February 20, 2009
David Tarler,
Acting Manager, National NAGPRA Program.

[FR Doc. E9-5310 Filed 3-11-09; 8:45 am]

BILLING CODE 4312-50-S